DEPARTMENT OF ENERGY

Federal Energy Regulatory Commission

[Docket No. ER01-1208-000]

Duke Energy Moapa, LLC; Notice of Filing

February 13, 2001.

Take notice that on February 8, 2001, Duke Energy Moapa, LLC (Duke Moapa), tendered for filing pursuant to Section 205 of the Federal Power Act its proposed FERC Electric Tariff, Original Volume No. 1.

Duke Moapa seeks authority to sell energy and capacity, as well as ancillary services, at market-based rates, together with certain waivers and preapprovals. Duke Moapa also seeks authority to sell, assign, or transfer transmission rights that it may acquire in the course of its marketing activities.

Duke Moapa seeks and effective date sixty (60) days from the date of filing for its proposed rate schedules.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 1, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-4067 Filed 2-16-01; 8:45 am]

BILLING CODE 6717-01-M